FEDERAL COMMUNICATIONS COMMISSION

Information Collection Being Reviewed by the Federal Communications Commission

AGENCY: Federal Communications Commission.

ACTION: Notice and request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information burden for small business concerns with fewer than 25 employees. The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before September 2, 2014. If you anticipate that you will be submitting PRA comments, but find it difficult to do so within the period of time allowed by this notice, you should advise the FCC contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-0484.

Title: Section 4.9, Part 4 of the Commission's Rules Concerning Disruptions to Communications.

Form Number: N/A.

Type of Review: Revision of a currently approved collection.

Respondents: Business or other for-profit entities, not-for profit institutions.

Number of Respondents: Approximately 1,100 respondents; 15,444 responses per year.

Estimated Time per Response: No more than 2.5 hours per occurrence.

Frequency of Response: On occasion and annual reporting requirements, recordkeeping requirement and third party disclosure requirement.

Obligation to Respond: Mandatory. Statutory authority for this collection of information is contained in 47 U.S.C. 151, 154(i)-(j) & (o), 201(b), 214(d), 218, 251(e)(3), 301, 303(b), 303(g), 303(r), 307, 309(a), 316, 332, 403, 615a-1, and 615c.

Total Annual Burden: 29,870 hours.

Total Annual Cost: $0.

Privacy Impact Assessment: No impacts.

Nature and Extent of Confidentiality: Network Outage Reporting System (NORS) outage reports filed with the Commission pursuant to Part 4 of its rules are presumed confidential. The information in those filings may be shared with the Department of Homeland Security only under appropriate confidential disclosure provisions. Other persons seeking disclosure must follow the procedures delineated in 47 CFR 0.457 and 0.459 of the Commission's rules for requests for and disclosure of information. The revisions to this information collection require information to be transmitted to third parties, not to the FCC. Accordingly, the Commission cannot, and does not, guarantee confidentiality of information provided directly to public safety answering points (PSAPs). The revisions do not affect the confidential treatment of information provided directly to the FCC through NORS.

Needs and Uses: The Commission is seeking OMB approval for a revision of this information collection in order to obtain the full three year approval from OMB. The Commission is reporting a 223-hour increase in its previous annual burden estimates. The increase is due to adoption of FCC 13-158, a Report and Order establishing more specific outage notification obligations for Covered 911 Service Providers, which are the respondents subject to the revised requirements of this information collection.

Previous FCC rules required certain communications providers to notify PSAPs of 911 outages “as soon as possible” with “all available information that may be useful.” The revisions to this information collection respond to the derecho storm that struck the Midwest and Mid-Atlantic United States in June 2012, causing significant disruptions in 911 service. Through its inquiry into these 911 outages, the Commission learned that many PSAPs' efforts to restore service were complicated by inadequate information and ineffective communication by 911 service providers. Consequently, the Commission amended section 4.9 of its rules to require more specific 911 outage notifications to PSAPs within specified time periods.

Under the new rule, Covered 911 Service Providers must notify PSAPs of outages that potentially affect 911 service within 30 minutes of discovering the outage and provide contact information such as a name, telephone number, and email for follow-up. Whenever additional material information becomes available, but no later than two hours after the initial contact, the Covered 911 Service Provider must communicate additional detail to the PSAP, including the nature of the outage, its best-known cause, the geographic scope of the outage, and the estimated time for repairs. Notifications must be transmitted by telephone and in writing via electronic means, unless the PSAP and service provider have agreed in advance to an alternative method. The new requirements apply only to entities defined as Covered 911 Service Providers under 47 CFR 12.4(a)(4), and outage reporting obligations for other entities remain unchanged.

The above revisions do not require information to be submitted to the FCC, but rather to third parties (i.e., PSAPs and other “911 special facilities”) that experience 911 outages. While the amended rule will not result in new or different information submitted to the Commission, it will require Covered 911 Service Providers to transmit more specific information to PSAPs to improve their situational awareness and ability to respond to 911 outages. Such notifications are necessary because PSAP personnel depend on reliable 911 service to answer emergency calls and dispatch help when needed. When 911 service is compromised, PSAPs require prompt notification and useful information about the outage so that they may make alternate plans to reroute calls until service is restored. Many Covered 911 Service Providers indicate that they already collect the required outage information for internal use, and for submission to the FCC through required NORS reports. Therefore, the obligation to provide more specific outage notifications to PSAPs will not generally require collection of new or different information, only a more consistent effort to ensure that transmission of such information is timely and complete. These revisions do not affect the obligation to submit NORS outage reports to the FCC or the information that must be provided in NORS reports; these portions of the information collection have already been approved by OMB and have not changed since that approval.

Federal Communications Commission.
Marlene H. Dortch,
Secretary, Office of the Secretary, Office of Managing Director.

[FR Doc. 2014-15303 Filed 6-30-14; 8:45 am]

BILLING CODE 6712-01-P